DEPARTMENT OF THE INTERIOR

National Park Service

[NPS-WASO-NRNHL-DTS#-29558; PPWOCRADI0, PCU00RP14.R50000]

National Register of Historic Places; Notification of Pending Nominations and Related Actions

AGENCY: National Park Service, Interior.

ACTION: Notice.

SUMMARY: The National Park Service is soliciting comments on the significance of properties nominated before December 21, 2019, for listing or related actions in the National Register of Historic Places.

DATES: Comments should be submitted by February 5, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 21, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Monroe County

Williamson, Ellis and Charlotte, House, 126 West Cloverdale Dr., Brinkley, SG100004944

Washington County

Williams, John G., House #2, 140 North Sang Ave., Fayetteville, SG100004942

Clark, Joe Marsh and Maxine, House (Arkansas Designs of E. Fay Jones MPS), 1724 Rockwood Trail, Fayetteville, MP100004945

CALIFORNIA

Los Angeles County

Founder's Church of Religious Science, 3281 West Sixth St., Los Angeles, SG100004936

Marin County

St. Hilary's Mission Church, 201 Esperanza St., Tiburon, SG100004935

Mendocino County

St. Francis Mission Church, Address Restricted, Hopland vicinity, SG100004919

San Diego County

Bumann Ranch, 3666 Bumann Rd., Encinitas, SG100004937

DISTRICT OF COLUMBIA

District of Columbia

Twin Oaks Playground and Field House, 4025 14th St. NW, Washington, SG100004941

KANSAS

Greenwood County

Greenwood Cemetery and Mausoleum, 00 East Seventh St., Eureka, SG100004925

Jackson County

Delia State Bank, 501 Washington Ave., Delia, SG100004924

Leavenworth County

Delaware Cemetery, 10388 222nd St., Linwood, SG100004927

Morris County

Greenwood Cemetery, 00 West Main St., Council Grove, SG100004926

Saline County

National Bank of America, 100 South Santa Fe, Salina, SG100004923

Sedgwick County

Sutton Place, 209 East William St., Wichita, SG100004920

Henry's Department Store, 124 South Broadway St., Wichita, SG100004921

St. James Episcopal Church, 3750 East Douglas Ave., Wichita, SG100004922

Wabaunsee County

Pratt-Mertz Barn, 34107 KS 18, Manhattan, SG100004928

MONTANA

Park County

Bottler, Frederick and Josephine, House, 2725 US 89 South, Emigrant vicinity, SG100004940

NEW MEXICO

Taos County

Molino de los Duranes, 83 Camino Abajo de la Loma, Ranchos de Taos vicinity, SG100004918

NEW YORK

Cayuga County

Huntington, Ezra A., House, 11 Seminary St., Auburn, SG100004914

Chautauqua County

Empire Worsted Mills, 31 Water St., Jamestown, SG100004916

Erie County

Buffalo Public School #78 (PS 78), 345 Olympic Ave., Buffalo, SG100004917

Monroe County

DeLand, Minerva and Daniel, House, 185 North Main St., Fairport, SG100004913

New York County

National Headquarters, March on Washington for Jobs and Freedom, 170 West 130th St., New York, SG100004933

Sullivan County

Broadway Historic District, Broadway, Liberty, Bank, North, Jones, Pleasant & St. John Sts. and Landfield Ave., Monticello, SG100004915

PENNSYLVANIA

Cumberland County

Melester Barn, 1110 South Spring Garden St., South Middleton Township, SG100004931

Additional documentation has been received for the following resources:

ARKANSAS

Pulaski County

Capitol View Neighborhood Historic District (Additional Documentation), Roughly bounded by Riverview Dr., South Schiller St., West Seventh St. and Woodrow St., Little Rock, AD00000813

KANSAS

Douglas County

East Lawrence Industrial Historic District (Additional Documentation), 619 East Eighth St., 804-846 Pennsylvania St., and 716 East Ninth St., Lawrence, AD07001250

MARYLAND

Frederick County

St. Joseph's College and Mother Seton Shrine (Additional Documentation), 16825 South Seton Ave., Emmitsburg, AD76000994

OKLAHOMA

Tulsa County

Blue Dome Historic District (Additional Documentation) (Route 66 and Associated Resources in Oklahoma AD MPS), Roughly between South Kenosha & South Detroit Aves.; Frisco RR tracks & East Eighth St., Tulsa, AD11000895

Authority: Section 60.13 of 36 CFR part 60.

Dated: December 23, 2019.
Julie H. Ernstein,
Supervisory Archeologist, National Register of Historic Places/National Historic Landmarks Program.

[FR Doc. 2020-00830 Filed 1-17-20; 8:45 am]

BILLING CODE 4312-52-P